DEPARTMENT OF THE INTERIOR

National Park Service

Notice of Inventory Completion for Native American Human Remains from Oklahoma in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains from Oklahoma in the possession of the Peabody Museum of Archaeology and Ethnology, Harvard University, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Peabody Museum of Archaeology and Ethnology professional staff in consultation with representatives of the Caddo Indian Tribe of Oklahoma.

In 1963, human remains representing one individual were donated to the Peabody Museum of Archaeology and Ethnology by the Robert S. Peabody Foundation, Robert S. Peabody Museum, Phillips Academy, Andover, MA. No known individual was identified. The one associated funerary object is a Hudson Engraved pottery vessel. This associated funerary object is in the collections of the Robert S. Peabody Museum, Phillips Academy, Andover, MA and will be reported in a separate notice.

Museum records indicate that these human remains were excavated by J.H. Rogers of the Texas, Oklahoma and Eastern Railroad Company and collected by E.S. Byington in 1913. While no exact record of the excavation has been located, Byington wrote in 1912 that he witnessed burial mounds being destroyed during the construction of the railroad crossing at Glover River, one-half mile from the Little River in McCurtain County, OK.

Based on the Hudson Engraved ceramic vessel, this individual has been identified as Native American, dating to the McCurtain phase (or focus), A.D. 1450-1600. Hudson Engraved ceramics are related to the McCurtain phase, and historic evidence indicates that Hudson Engraved ceramics were produced by Caddoan peoples circa A.D. 1500-1730. Although the exact site from which these human remains were recovered is not known, other sites in the area have produced Hudson Engraved or closely related vessels, some of which have been found in association with European trade items. Based on the combined archeological and historical evidence, it is likely these human remains represent a Caddo individual.

Based on the above-mentioned information, officials of the Peabody Museum of Archaeology and Ethnology have determined that, pursuant to 43 CFR 10.2 (d)(1), the human remains listed above represent the physical remains of one individual of Native American ancestry. Officials of the Peabody Museum of Archaeology and Ethnology also have determined that, pursuant to 43 CFR 10.2 (e), there is a relationship of shared group identity that can be reasonably traced between these Native American human remains and the Caddo Indian Tribe of Oklahoma. This notice has been sent to officials of the Caddo Indian Tribe of Oklahoma. Representatives of any other Indian tribe that believes itself to be culturally affiliated with these human remains should contact Barbara Isaac, Repatriation Coordinator, Peabody Museum of Archaeology and Ethnology, Harvard University, 11 Divinity Avenue, Cambridge, MA 02138, telephone (617) 495-2254, before September 15, 2000. Repatriation of the human remains to the Caddo Indian Tribe of Oklahoma may begin after that date if no additional claimants come forward.

Dated: July 27, 2000.
John Robbins,
Assistant Director, Cultural Resources Stewardship and Partnerships Programs.

[FR Doc. 00-20823 Filed 8-15-00; 8:45 am]

BILLING CODE 4310-70-F